DEPARTMENT OF LABOR

Occupational Safety and Health Administration

29 CFR Part 1926

Safety and Health Regulations for Construction

CFR Correction

In Title 29 of the Code of Federal Regulations, Part 1926, revised as of July 1, 2017, on page 88, in § 1926.60, remove paragraph (o)(8)(ii).

[FR Doc. 2018-07530 Filed 4-10-18; 8:45 am]

BILLING CODE 1301-00-D